DEPARTMENT OF ENERGY

Federal Energy Regulatory Commission

[Docket No. EC00-59-000, et al.]

Lake Benton Power Partners II LLC, et al.; Electric Rate and Corporate Regulation Filings

March 2, 2000.

Take notice that the following filings have been made with the Commission:

1. Lake Benton Power Partners II LLC

[Docket No. EC00-59-000]

Take notice that on February 25, 2000, Lake Benton Power Partners II LLC (Lake Benton II) filed an application under Section 203 of the Federal Power Act for approval of the purchase of Lake Benton II by a subsidiary of FPL Energy, LLC. Lake Benton II owns a wind power generation project located in southern Minnesota. All of the power from the project is sold to Northern States Power Company.

Comment date: March 27, 2000, in accordance with Standard Paragraph E at the end of this notice.

2. Puget Sound Energy, Inc.

[Docket No. ER00-664-001]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

3. Puget Sound Energy, Inc.

[Docket No. ER00-665-001]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

4. Puget Sound Energy, Inc.

[Docket No. ER00-666-002]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

5. Puget Sound Energy, Inc.

[Docket No. ER00-667-002]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

6. Puget Sound Energy, Inc.

[Docket No. ER00-668-001]

Take notice that on February 25, 2000, Puget Sound Energy, Inc., as Transmission Provider, tendered for filing a Service Agreement for Short-Term Firm Point-To-Point Transmission Service with the United States of America Department of Energy acting by and through the Bonneville Power Administration (Bonneville), as Transmission Customer.

A copy of the filing was served upon Bonneville.

Comment date: March 17, 2000, in accordance with Standard Paragraph E at the end of this notice.

7. Puget Sound Energy, Inc.

[Docket No. ER00-669-001]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

8. Puget Sound Energy, Inc.

[Docket No. ER00-670-001]

Take notice that on February 25, 2000, Puget Sound Energy, Inc., as Transmission Provider, tendered for filing a Service Agreement for Long-Term Firm Point-To-Point Transmission Service with the United States of America Department of Energy acting by and through the Bonneville Power Administration (Bonneville), as Transmission Customer.

A copy of the filing was served upon Bonneville.

Comment date: March 17, 2000, in accordance with Standard Paragraph E at the end of this notice.

9. PPL Electric Utilities Corporation d/b/a/ PPL Utilities

[Docket No. ER00-1712-000]

Take notice that on February 25, 2000, PPL Electric Utilities Corporation, d/b/a PPL Utilities, filed a Notice of Change in Corporate Name to notify the Federal Energy Regulatory Commission that the corporate name of PP&L, Inc. has been changed to PPL Electric Utilities Corporation, d/b/a PPL Utilities, effective February 14, 2000.

Comment date: March 17, 2000, in accordance with Standard Paragraph E at the end of this notice.

10. Entergy Services, Inc.

[Docket No. ER00-1713-000]

Take notice that on February 28, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing the First Amendment (Amendment) to the Interconnection and Power Agreement (Interconnection Agreement) between Entergy Services and Hodge Utility Operating Company, acting as agent for the Village of Hodge, Louisiana.

Comment date: March 20, 2000, in accordance with Standard Paragraph E at the end of this notice.

11. Minnesota Power, Inc.

[Docket No. ER00-1714-000]

Take notice that on February 28, 2000, Minnesota Power, Inc. (Minnesota Power) submitted for filing a Service Agreement under which Great River Energy will take network integration transmission service under Minnesota Power's open access transmission tariff. Minnesota Power also filed, pursuant to Section 35.15(a) of the Commission's regulations, a notice of termination for the Integrated Transmission Agreement with the Cooperative Power Association, designated as Minnesota Power FERC Electric Rate Schedule No. 89.

Comment date: March 20, 2000, in accordance with Standard Paragraph E at the end of this notice.

12. Columbus Southern Power Company

[Docket No. ER00-1716-000]

Take notice that on February 28, 2000, American Electric Power Service Corporation (AEP), on behalf of Columbus Southern Power Company (CSP), tendered for filing with the Commission a Facilities, Operations, Maintenance and Repair Agreement (Agreement) dated December 1, 1999, between CSP and South Central Power Company (SCP) and Buckeye Power, Inc. (Buckeye).

Buckeye has requested CSP provide a delivery point, pursuant to provisions of the Power Delivery Agreement between CSP, Buckeye Power, Inc. (Buckeye), The Cincinnati Gas & Electric Company, The Dayton Power and Light Company, Monongahela Power Company, Ohio Power Company and Toledo Edison Company, dated January 1, 1968.

CSP requests an effective date of April 15, 2000, for the tendered agreements.

CSP states that copies of its filing were served upon South Central Power Company and the Public Utilities Commission of Ohio.

Comment date: March 17, 2000, in accordance with Standard Paragraph E at the end of this notice.

13. Reliant Energy Shelby County, LP

[Docket No. ER00-1717-000]

Take notice that on February 28, 2000, Reliant Energy Shelby County, LP (Reliant Shelby County), tendered for filing pursuant to Rule 205 of the Commission's Rules of Practice and Procedure, 18 CFR 385.205, a petition for waivers and blanket approvals under various regulations of the Commission and for an order accepting its FERC Electric Rate Schedule No. 1 authorizing Reliant Shelby County to make sales at market-based rates.

Reliant Shelby County intends to sell electric power at wholesale. In transactions where Reliant Shelby County sells electric energy, it proposes to make such sales on rates, terms, and conditions to be mutually agreed to with the purchasing party. Reliant Shelby County's Rate Schedule provides for the sale of energy and capacity at agreed prices.

Reliant Shelby County has requested this rate schedule become effective on the in service date Reliant Shelby County of its Shelby County, Illinois generating facility.

Comment date: March 17, 2000, in accordance with Standard Paragraph E at the end of this notice.

14. Maine Public Service Company

[Docket No. ER00-1718-000]

Take notice that on February 28, 2000, Maine Public Service Company (Maine Public), tendered for filing an executed Service Agreement for Network Integration Transmission Service under Maine Public's open access transmission tariff with Houlton Water Company.

Comment date: March 17, 2000, in accordance with Standard Paragraph E at the end of this notice.

15. Deseret Generation and Transmission Co-operative, Inc.

[Docket No. ER00-1720-000]

Take notice that on February 28, 2000, Deseret Generation & Transmission Co-operative, Inc. (Deseret), tendered for filing an executed Confirmation Agreement between Deseret and AEP Service Corporation regarding a long-term power purchase and sale transaction under the Western Systems Power Pool Agreement.

Comment date: March 17, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-5854 Filed 3-9-00; 8:45 am]

BILLING CODE 6717-01-P